DEPARTMENT OF HOMELAND SECURITY

Transportation Security Administration

Announcement of Approved Third-Party Canine-Cargo Certifiers, and Start of Certification Events

AGENCY: Transportation Security Administration, DHS.

ACTION: Notice.

SUMMARY: The Transportation Security Administration (TSA) has approved the following organizations to assess third-party explosives detection canine teams to determine whether they meet TSA's standards for screening air cargo. This notice announces the list of approved certifying organizations, and establishes a certification start date of November 1, 2018.

TSA-approved 3PK9-C Certifiers may begin certifying canine teams to TSA standards effective November 1, 2018, and may continue to certify teams thereafter. All certification events must be conducted in accordance with the requirements of the 3PK9-C Order, by an Authorized Evaluator employed by a TSA-approved 3PK9-C Certifier.

DATES: The certification start date is effective November 1, 2018.

ADDRESSES: Interested parties can contact 3PKCert@tsa.dhs.gov to obtain information about the certification program.

FOR FURTHER INFORMATION CONTACT: Christopher Shelton, 3PK9-C Team, Canine Training Center, Training and Development, Transportation Security Administration, U.S. Department of Homeland Security; email to 3PKCert@tsa.dhs.gov; telephone at (210) 396-4425 (desk); fax to (210) 671-4911.

SUPPLEMENTARY INFORMATION:

Background

TSA created the Third-Party Canine-Cargo (3PK9-C) Program, under TSA's regulations for Certified Cargo Screening Programs (CCSP), see 49 CFR part 1549, to provide an efficient and effective method for screening air cargo to TSA's standards. Under this program, third-party canine teams trained in explosives detection can be certified by a non-governmental entity, acting under the approval of TSA, as meeting TSA's certification standards. Certified 3PK9-C teams can be deployed to screen air cargo for aircraft operators, foreign air carriers, and other TSA-regulated parties operating under a TSA-approved or accepted security program.

On May 18, 2018, TSA published a notice in the Federal Register seeking applications from qualified persons interested in becoming an approved 3PK9-C Certifier under the 3PK9-C Program. See 83 FR 23287.

The CCSP-K9 security program will define the requirements that TSA-regulated canine explosives detection teams must meet when screening cargo for air carriers and screening facilities and will include eligibility requirements for canine explosives detection teams. These eligibility requirements for canine explosives detection teams include, but are not limited to, experience, education, vetting, and citizenship requirements for canine team handlers. These eligibility requirements for canine explosives detection teams are not contained in the 3PK9 Certifier Order. The 3PK9 Security Program and Order are not available to the public as they contain information that cannot be publicly disclosed under 49 CFR part 1520. Individuals that complete the required vetting processes and other agreements necessary for release of Sensitive Security Information (SSI), including documenting a “need to know,” will be provided a copy of the Order and Security Program.

Canine explosives detection teams may seek certification as early as November 1, 2018, but all teams should understand that successful completion of a 3PK9-C certification event is only one of the requirements for explosives detection canine teams under the CCSP-K9 security program. Among other requirements, the CCSP-K9 security program requires canine explosives detection teams to pass a background check before an air carrier may hire them to screen cargo.

3PK9 Certifiers

The following individuals and organizations have been approved by TSA to serve as 3PK9 Certifiers:

BSA Security and Investigations, Inc., Point of Contact: Bruce Schofield, bruce.schofield@bsasecurity.com, Phone: (909) 350-2600.

Dogs for Defense Inc., Point of Contact: Kristin Hughes, kristin@d4d.us, Phone: (320) 980-2235.

EPG LLC, Point of Contact: Brian C. Hayen, inv55@aol.com, Phone: (203) 921-6021.

ExcetK9, Point of Contact: Dr. Jorge Maciel, ExcetK9@excetinc.com, Phone: (410) 436-7271.

Hill Country Dog Center LLC, Point of Contact: Michael Clemenson, Mike@hcdogcenter.com, Phone: (830) 510-4700.

International Canine College, Inc., Point of Contact: Bob Anderson, Bobik9c@gmail.com, Phone: (561) 722-3881.

K-9 Solutions International, Inc., Point of Contact: Jason Johnson, j.johnson@ik9.com, Phone: (810) 844-6045.

K-9 Specialized Training and Consulting LLC, Point of Contact: David Dorn, dorn@k9stac.com, Phone: (925) 997-3122.

Renbar Kennels, LLC, Point of Contact: William Scribner, Renbar.kennels@sbcglobal.net, Phone: (203) 546-0150.

Spectrum Canine Solutions, Point of Contact: Marilyn Rivera-Schembre, k9command@spectrumcanine.com, Phone: (210) 772-2181.

The Parker K9 Group LLC, Point of Contact: William Parker, K9Whisper@comcast.net, Phone: (703) 431-6808.

Xtreme Concepts Inc., Point of Contact: Jason Johnson, j.johnson@ik9.com, Phone: (810) 844-6045.

TSA will continue to provide updates pending formal release of the CCSP-K9 security program. If you have questions, please feel free to email the TSA 3PK9-C Team at 3PKCert@tsa.dhs.gov.

Dated: October 31, 2018.
Ronald Gallihugh,
Deputy Executive Assistant Administrator, Enterprise Support.

[FR Doc. 2018-24218 Filed 11-5-18; 8:45 am]

BILLING CODE 9110-05-P